INTERNATIONAL TRADE COMMISSION

[Investigation Nos. 701-TA-405, 406, and 408 and 731-TA-899-901 and 906-908 (Second Review)]

Hot-Rolled Steel Products From China, India, Indonesia, Taiwan, Thailand, and Ukraine; Determination

On the basis of the record ¹ developed in the subject five-year reviews, the United States International Trade Commission (Commission) determines, pursuant to section 751(c) of the Tariff Act of 1930 (19 U.S.C. 1675(c)), that revocation of the countervailing duty orders on hot-rolled steel products from India, Indonesia, and Thailand and the antidumping duty orders on hot-rolled steel products from China, India, Indonesia, Taiwan, Thailand, and Ukraine would be likely to lead to continuation or recurrence of material injury to an industry in the United States within a reasonably foreseeable time.²

¹ The record is defined in sec. 207.2(f) of the Commission's Rules of Practice and Procedure (19 CFR 207.2(f)).

² Commissioners Meredith M. Broadbent and F. Scott Kieff dissent with respect to the determinations regarding hot-rolled steel products from Indonesia.

Background

The Commission instituted these reviews on November 1, 2012 (77 FR 66078) and determined on February 4, 2013 that it would conduct full reviews (78 FR 11901, February 20, 2013). Notice of the scheduling of the Commission's reviews and of a public hearing to be held in connection therewith was given by posting copies of the notice in the Office of the Secretary, U.S. International Trade Commission, Washington, DC, and by publishing the notice in the Federal Register on April 16, 2013 (78 FR 24435, April 25, 2013) and revised on October 21, 2013 (78 FR 64008, October 25, 2013). The hearing was held in Washington, DC, on October 31, 2013, and all persons who requested the opportunity were permitted to appear in person or by counsel.

The Commission completed and filed its determination in these reviews on January 15, 2014. The views of the Commission are contained in USITC Publication 4445 (January 2014), entitled Hot-Rolled Steel Products from China, India, Indonesia, Taiwan, Thailand, and Ukraine (Inv. Nos. 701-TA-405, 406, & 408 and 731-TA-899-901 & 906-908 (Second Review)).

By order of the Commission.
Issued: January 16, 2014.
Lisa R. Barton,
Acting Secretary to the Commission.

[FR Doc. 2014-01169 Filed 1-21-14; 8:45 am]

BILLING CODE 7020-02-P